DEPARTMENT OF TRANSPORTATION

Federal Aviation Administration

14 CFR Part 39

[Docket No. 2000-NE-11-AD; Amendment 39-11912; AD 2000-20-01]

RIN 2120-AA64

Airworthiness Directives; Turbomeca Arriel 1 Series Turboshaft Engines

AGENCY: Federal Aviation Administration, DOT.

ACTION: Final rule; request for comments.

SUMMARY: This amendment adopts a new airworthiness directive (AD) that is applicable to certain Turbomeca Arriel 1 series turboshaft engines. This action requires the installation of a chip detector with electronic warning on the rear bearing oil return system. This amendment is prompted by reports of gas generator rear bearing failures. The actions specified in this AD are intended to prevent gas generator rear bearing failure, which could lead to an uncommanded engine shutdown.

DATES: Effective October 17, 2000. The incorporation by reference of certain publications listed in the rule is approved by the Director of the Federal Register as of October 17, 2000.

Comments for inclusion in the Rules Docket must be received on or before December 1, 2000.

ADDRESSES: Submit comments in triplicate to the Federal Aviation Administration (FAA), New England Region, Office of the Regional Counsel, Attention: Rules Docket No. 2000-NE-11-AD, 12 New England Executive Park, Burlington, MA 01803-5299. Comments may also be sent via the Internet using the following address: “9-ane-adcomment@faa.gov.” Comments sent via the Internet must contain the docket number in the subject line.

The service information referenced in this AD may be obtained from Turbomeca, 64511 Bordes Cedex, France; telephone: 33 59 12 50 00; fax: 33 59 53 15 12. This information may be examined at the FAA, New England Region, Office of the Regional Counsel, 12 New England Executive Park, Burlington, MA; or at the Office of the Federal Register, 800 North Capitol Street, NW, Suite 700, Washington, DC.

FOR FURTHER INFORMATION CONTACT: James Rosa, Aerospace Engineer, Engine Certification Office, FAA, Engine and Propeller Directorate, 12 New England Executive Park, Burlington, MA 01803-5299; telephone: (781) 238-7152; fax: (781) 238-7199.

SUPPLEMENTARY INFORMATION: The Direction Generale de L'Aviation Civile (DGAC), the airworthiness authority for France, recently notified the Federal Aviation Administration (FAA) that an unsafe condition may exist on certain Turbomeca Arriel 1 series turboshaft engines. The DGAC advises that it has received reports of gas generator rear bearing failure. There were 38 incidents of uncommanded in-flight engine shutdowns before August 1999; no fatalities were reported. This condition, if not corrected, could result in an uncommanded engine shutdown.

Manufacturer's Service Information

Turbomeca has issued Service Bulletin (SB) No. 292 72 0163, Revision 1, dated April 3, 1996, that specifies procedures for the installation of a chip detector with electronic warning on the rear bearing oil return system. The DGAC classified this service bulletin as mandatory and issued AD 98-394(A) in order to ensure the airworthiness of these engines in France.

Bilateral Airworthiness Agreement

This engine model is manufactured in France and is type certificated for operation in the United States under the provisions of 21.29 of Title 14 of the Code of Federal Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Requirements of this AD

Since an unsafe condition has been identified that is likely to exist or develop on engines of the same type design in the United States, this AD requires the installation of a chip detector with electronic warning on the rear bearing oil return system. The actions are required to be accomplished in accordance with the service bulletin described previously.

Immediate Adoption

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000- NE-11-AD.” The postcard will be date-stamped and returned to the commenter.

Regulatory Impact

The regulations adopted herein will not have a substantial direct effect on the States, on the relationship between the national government and the States, or on the distribution of power and responsibilities among the various levels of government. Therefore, in accordance with Executive Order 13132, it is determined that this final rule does not have sufficient federalism implications to warrant the preparation of a Federalism Assessment. Accordingly, the FAA has not consulted with state authorities prior to publication of this proposed rule.

The FAA has determined that this regulation is an emergency regulation that must be issued immediately to correct an unsafe condition in aircraft and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of Title 14 of the Code of Federal Regulations (14 CFR part 39) as follows:

PART 39—AIRWORTHINESS DIRECTIVES

1. The authority citation for part 39 continues to read as follows:

Authority: 49 U.S.C. 106(g), 40113, 44701.

39.13 [Amended]

2. Section 39.13 is amended by adding the following new airworthiness directive:

2000—20—01 Turbomeca: Amendment 39-11912. Docket 2000-NE-11-AD.

Applicability: This AD is applicable to Turbomeca Arriel 1 A, -1 A1, -1 A2, -1 B, -1 C, -1 C1, -1 C2, -1 D, -1 D1, -1 K, -1 K1, -1 S, and -1 S1 turboshaft engines.These engines are installed on, but not limited to, the following helicopters:

Eurocopter AS 356 C | Eurocopter AS 365 C1 | Eurocopter AS 350 BA
Eurocopter AS 356 N2 | Eurocopter AS 350 B | Eurocopter AS 350 B2N
Eurocopter AS 350 D | Eurocopter As 550 U2 | Augusta A109K2
Sikorsky S76A | Sikorsky 76A+ | Sikorsky 76A++
Sikorsky S76C |

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Required as indicated, unless accomplished previously.

To prevent gas generator rear bearing failure, which could result in an uncommanded engine shutdown, do the following:

Required Action

(a) Within 30 days from the effective date of this AD, install a chip detector with electronic warning on the rear bearing oil return system in accordance with Turbomeca Service Bulletin (SB) No. 292 72 0163, Revision 1, dated April 3, 1996, paragraph 2, Instructions for incorporation.

Alternative Methods of Compliance

(b) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this airworthiness directive, if any, may be obtained from the Manager, ECO.

Special Flight Permits

(c) Special flight permits may be issued in accordance with §§ 21.197 and 21.199 of the Federal Aviation Regulations (14 CFR 21.197 and 21.199) to operate the aircraft to a location where the requirements of this AD can be accomplished.

Incorporation by Reference

(d) The actions required by this AD shall be performed in accordance with Turbomeca Service Bulletin No. 292 72 0163, Revision 1, dated April 3, 1996. This incorporation by reference was approved by the Director of the Federal Register in accordance with 5 U.S.C. 552(a) and 1 CFR part 51. Copies may be obtained from Turbomeca, 64511 Bordes Cedex, France; telephone 33 59 12 50 00; fax 33 59 53 15 12. Copies may be inspected at the FAA, New England Region, Office of the Regional Counsel, 12 New England Executive Park, Burlington, MA; or at the Office of the Federal Register, 800 North Capitol Street, NW, Suite 700, Washington, DC.

Effective Date

(e) This amendment becomes effective on October 17, 2000.

Issued in Burlington, Massachusetts, on September 21, 2000.
Mark C. Fulmer,
Acting Manager, Engine and Propeller Directorate, Aircraft Certification Service.

[FR Doc. 00-24900 Filed 8-29-00; 8:45 am]

BILLING CODE 4910-13-P